DEPARTMENT OF DEFENSE

Department of the Air Force

Acceptance of Group Application Under Public Law 95-202 and Department of Defense Directive (DoDD) 1000.20 “Uniformed Aviation Industry Contract Technical Specialists Assigned to Extended Duty at Ladd Field, AK, To Test Army Air Force Airplanes as Part of the Cold Weather Test Detachment From February 1, 1942, Through February 22, 1944”

Under the provisions of Section 401, Public Law 95-202 and DoD Directive 1000.20, the Department of Defense Civilian/Military Service Review Board has accepted an application on behalf of the group known as: “Uniformed Aviation Industry Contract Technical Specialists Assigned to Extended Duty at Ladd Field, Alaska, to Test Army Air Force Airplanes as Part of the Cold Weather Test Detachment from February 1, 1942, through February 22, 1944.” Persons with information or documentation pertinent to the determination of whether the service of this group should be considered active military service to the Armed Forced of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 02-14725 Filed 6-11-02; 8:45 am]

BILLING CODE 5001-05-P